DEPARTMENT OF COMMERCE

International Trade Administration

[A-583-831]

Notice of Correction to the Amended Final Determination in Accordance With Court Decision in the Antidumping Duty Investigation of Stainless Steel Sheet and Strip in Coils From Taiwan

AGENCY: Import Administration, International Trade Administration, Department of Commerce.

DATES: Effective Date: April 7, 2005.

FOR FURTHER INFORMATION CONTACT: Robert Bolling, Import Administration, International Trade Administration, U.S. Department of Commerce, 14th Street and Constitution Avenue, NW., Washington, DC 20230; telephone: (202) 482-3434.

SUMMARY: On November 17, 2004, the Department of Commerce (“Department”) published an Amended Final Determination in Accordance with Court Decision of the Antidumping Duty Investigation of Stainless Steel Sheet and Strip in Coils From Taiwan, 69 FR 67311 (November 17, 2004) (“Amended Final Determination”). In the Amended Final Determination, the Department announced the incorrect effective date of the exclusion from the antidumping duty order on stainless steel sheet and strip in coils from Taiwan with respect to entries from Tung Mung Development Corporation (“Tung Mung”).

SUPPLEMENTARY INFORMATION:

Background

On June 8, 1999, the Department published the Final Determination of Sales at Less than Fair Value: Stainless Steel Sheet and Strip in Coils From Taiwan, 64 FR 30592 (June 8, 1999) (“Final Determination”), covering the period of investigation (“POI”) of April 1, 1997, through March 31, 1998. This investigation involved three Taiwanese producers/exporters, Tung Mung, Yieh United Steel Corporation (“YUSCO”), Chang Mien Industries Co., Ltd. (“Chang Mien”), and a Taiwanese middleman, Ta Chen Stainless Pipe Company Ltd. (“Ta Chen”). Tung Mung and YUSCO contested various aspects of the Final Determination. On July 3, 2001, the Court of International Trade (“CIT”) issued slip opinion 01-83 in Tung Mung Development Co., Ltd. v. United States, Consol. Court No. 99-06-00457 (CIT July 3, 2001) (“Tung Mung I”) and remanded the Final Determination to the Department. In the March 21, 2001, remand determination, the Department found, among other issues, that the merchandise produced and exported by Tung Mung had not been sold at less than fair value during the POI. On August 22, 2002, the CIT found that the Department's remand determination was in accordance with the law. See Tung Mung Development Co., Ltd. v. U.S., 219 F.Supp.2d 1333 (CIT August 22, 2002) (“Tung Mung II”).

Domestic producers appealed this decision. On January 15, 2004, the Court of Appeals for the Federal Circuit ruled that the Department's decision to calculate middleman antidumping rates using combination rates was not arbitrary and capricious and affirmed the CIT's affirmance of the Department's redetermination. See Tung Mung Development Co., Ltd. v. U.S., 354 F.3d 1371 (Fed.Cir. January 15, 2004) (“Tung Mung III”), Tung Mung II, and the Department's Final Results of Redetermination Pursuant to Court Remand in response to Tung Mung I.

On November 17, 2004, the Department published the Amended Final Determination in which it stated that it will instruct U.S. Customs and Border Protection (“CBP”) to liquidate entries from Tung Mung without regard to antidumping duties because Tung Mung is excluded from the antidumping duty order effective October 16, 2002, the date on which the Department published a notice of the Court decision (see Stainless Steel Sheet and Strip in Coils from Taiwan: Notice of Court Decision, 67 FR 63887 (October 16, 2002)). The above instructions should have read that the Department will instruct CBP to liquidate entries from Tung Mung without regard to antidumping duties effective June 8, 1999, the date on which the Department published its Final Determination, because liquidation of entries from Tung Mung was first suspended on that date and remained covered by an injunction during the pendency of the litigation. Thus, we will instruct CBP to liquidate entries from Tung Mung without any regard to antidumping duties effective June 8, 1999.

This notice is issued and published in accordance with section 735(d) of Tariff Act of 1930, as amended.

Dated: March 30, 2005.
Joseph A. Spetrini,
Acting Assistant Secretary for Import Administration.

[FR Doc. E5-1611 Filed 4-6-05; 8:45 am]

BILLING CODE 3510-DS-P